NUCLEAR REGULATORY COMMISSION

[NRC-2011-0006]

Sunshine Act Meeting

AGENCY HOLDING THE MEETINGS: Nuclear Regulatory Commission.

DATES: Weeks of November 28, December 5, 12, 19, 26, 2011, January 2, 2012.

PLACE: Commissioners' Conference Room, 11555 Rockville Pike, Rockville, Maryland.

STATUS: Public and Closed.

Week of November 28, 2011

Tuesday, November 29, 2011

9:25 a.m. Affirmation Session (Public Meeting) (Tentative)

a. U.S. Department of Energy (High-Level Waste Repository), Docket No. 63-001-HLW; Staff Petition for the Commission to Exercise its Inherent Supervisory Authority to Review Board Orders Regarding Preservation of Licensing Support Network (LSN) Documents Collection, and Staff Request for Stay (Tentative)

b. Final Rule: Requirements for Fingerprint—Based Criminal History Records Checks for Individuals Seeking Unescorted Access to Nonpower Reactors (Research or Test Reactors) (RIN 3150-A125) (Tentative)

This meeting will be webcast live at the Web address— http://www.nrc.gov.

9:30 a.m. Meeting with the Advisory Committee on Reactor Safeguards (ACRS) (Public Meeting) (Contact: Tanny Santos, (301) 415-7270)

This meeting will be webcast live at the Web address— http://www.nrc.gov.

Thursday, December 1, 2011

9:30 a.m. Briefing on Equal Employment Opportunity (EEO) and Small Business Programs (Public Meeting) (Contact: Barbara Williams, (301) 415-7388)

This meeting will be webcast live at the Web address— http://www.nrc.gov.

Week of December 5, 2011—Tentative

There are no meetings scheduled for the week of December 5, 2011.

Week of December 12, 2011—Tentative

Tuesday, December 13, 2011

9 a.m. Briefing on NFPA 805 Fire Protection (Public Meeting)(Contact: Alex Klein, (301) 415-2822)

This meeting will be webcast live at the Web address— http://www.nrc.gov.

Week of December 19, 2011—Tentative

There are no meetings scheduled for the week of December 19, 2011.

Week of December 26, 2011—Tentative

There are no meetings scheduled for the week of December 26, 2011.

Week of January 2, 2012—Tentative

There are no meetings scheduled for the week of January 2, 2012.

* * * * *

* The schedule for Commission meetings is subject to change on short notice. To verify the status of meetings, call (recording)—(301) 415-1292. Contact person for more information: Rochelle Bavol, (301) 415-1651.

* * * * *

The NRC Commission Meeting Schedule can be found on the Internet at: http://www.nrc.gov/public-involve/public-meetings/schedule.html.

* * * * *

The NRC provides reasonable accommodation to individuals with disabilities where appropriate. If you need a reasonable accommodation to participate in these public meetings, or need this meeting notice or the transcript or other information from the public meetings in another format (e.g. braille, large print), please notify Bill Dosch, Chief, Work Life and Benefits Branch, at (301) 415-6200, TDD: (301) 415-2100, or by email at william.dosch@nrc.gov. Determinations on requests for reasonable accommodation will be made on a case-by-case basis.

* * * * *

This notice is distributed electronically to subscribers. If you no longer wish to receive it, or would like to be added to the distribution, please contact the Office of the Secretary, Washington, DC 20555 (301) 415-1969), or send an email to darlene.wright@nrc.gov.

Dated: November 23, 2011.
Rochelle C. Bavol,
Policy Coordinator, Office of the Secretary.

[FR Doc. 2011-30839 Filed 11-25-11; 4:15 pm]

BILLING CODE 7590-01-P